DEPARTMENT OF COMMERCE

National Oceanic and Atmospheric Administration

Federal Consistency Appeal by Foothill/Eastern Transportation Corridor Agency

AGENCY: National Oceanic and Atmospheric Administration (NOAA), Department of Commerce (Commerce).

ACTION: Notice of public hearing.

SUMMARY: This announcement provides notice of a public hearing to be held by the National Oceanic and Atmospheric Administration (NOAA) in California. The hearing involves an administrative appeal filed with the Department of Commerce by the Foothill/Eastern Transportation Corridor Agency (TCA).

Date and Location: NOAA will conduct the public hearing on September 22, 2008, from 10:30 a.m. to 8:30 p.m., in O'Brien Hall at the Del Mar Fairgrounds, 2260 Jimmy Durante Boulevard, Del Mar, CA 92014.

ADDRESSES: Materials from the appeal record will be available at the NOAA Office of General Counsel for Ocean Services, 1305 East-West Highway, Room 6111, Silver Spring, MD 20910 and on the following Web site: http://www.ogc.doc.gov/czma.htm.

Comments: This notice reopens the comment period for public and Federal agency comments. The public comment period will remain open until October 2, 2008. Comments on issues relevant to the Secretary's decision of this appeal may be sent by mail to Thomas Street, Attorney-Advisor, NOAA Office of General Counsel for Ocean Services, 1305 East-West Highway, Room 6111, Silver Spring, MD 20910. Comments may also be sent via e-mail to gcos.comments@noaa.gov.

FOR FURTHER INFORMATION CONTACT: Thomas Street, Attorney-Advisor, NOAA Office of the General Counsel, 301-713-2967, gcos.inquiries@noaa.gov or Stephanie Campbell, Attorney-Advisor, NOAA Office of the General Counsel, 301-713-2967, gcos.inquiries@noaa.gov.

SUPPLEMENTARY INFORMATION: On February 15, 2008, TCA filed notice of an appeal with the Secretary of Commerce (Secretary), pursuant to the Coastal Zone Management Act of 1972 (CZMA), 16 U.S.C. 1451 et seq., and implementing regulations found at 15 CFR part 930, subpart H. TCA appealed an objection by the California Coastal Commission (Commission) to TCA's proposed construction of an extension to California State Route 241 in northern San Diego and southern Orange Counties, California.

Under the CZMA, the Secretary may override the Commission's objection if he determines that the project is consistent with the objectives or purposes of the CZMA or is otherwise necessary in the interest of national security. To make the determination that the proposed activity is “consistent with the objectives or purposes” of the CZMA, the Secretary must find that: (1) The proposed activity furthers the national interest as articulated in sections 302 or 303 of the CZMA, in a significant or substantial manner; (2) the adverse effects of the proposed activity do not outweigh its contribution to the national interest, when those effects are considered separately or cumulatively; and (3) no reasonable alternative is available that would permit the activity to be conducted in a manner consistent with enforceable policies of the state's coastal management program. 15 CFR 930.121.

On March 17, 2008, NOAA published a notice in the Federal Register announcing, among other things, that a public hearing might be held concerning this appeal. The hearing will be held. This notice provides scheduling and procedural information about the hearing. Because NOAA anticipates a large number of attendees at the public hearing, NOAA has established the following rules to ensure an orderly and efficient process and to maximize the public input and viewpoints that are received during time allotted.

Members of the public, elected officials, and individuals representing organizations or tribes may give oral testimony at the hearing. Anyone wishing to provide oral testimony at the hearing must submit a written request via United States mail or commercial carrier (Federal Express/UPS/Airborne Express or similar means) to NOAA no later than September 12, 2008. No requests received after close-of-business on September 12, 2008, or requests submitted via e-mail, facsimile, or voicemail will be considered. The written request should be sent to: Thomas Street, Attorney Advisor, NOAA Office of General Counsel for Ocean Services, 1305 East-West Highway, Room 6111, Silver Spring, MD 20910. Although the submission of a written request is a prerequisite to providing oral testimony, it is not a guarantee that an individual will be afforded the opportunity to testify due to the hearing's time constraints.

A written request must include the individual's full name, address, and a statement of whether the testimony will be provided on behalf of: (i) An individual; (ii) an organization; (iii) an elected official; or (iv) a tribe. In his or her request to testify, an elected official must identify his or her official title and public office. An elected official must testify in person. A public hearing participant who wishes to provide testimony on behalf of an organization must submit the request on the organization's letterhead, identify his or her title within the organization, and certify that the individual is authorized to provide testimony on behalf of the organization. A participant who wishes to provide testimony on behalf of a tribe must identify the tribe and certify that he or she is authorized to provide testimony on behalf of the tribe.

After receipt of written requests to provide testimony, NOAA staff will separate the requests into four general categories: Individuals, elected officials, organizations, and tribes. NOAA will then create a testimony schedule with speakers randomly selected from within each of the general categorical groupings. Priority will be given to elected officials (first) and individuals representing organizations or tribes (second), with the remaining time allotted to individuals testifying on their own behalf. The testimony schedule will be published on the Department of Commerce Coastal Zone Management Act Web site (http://www.ogc.doc.gov/czma.htm) before the hearing.

Speakers from the general public will receive up to three minutes to present oral comments. Elected officials and individuals representing organizations or tribes will receive up to five minutes to speak. In order to accommodate the maximum number of speakers, time limits will be strictly enforced. If any member of the public, elected official, or organizational or tribal representative misses his or her assigned speaking slot, there will be no ability to make it up. Speakers will not be permitted to cede time to another speaker, and only one person may speak on behalf of an organization or tribe.

Written comments on issues relevant to the Secretary's decision in this appeal may be submitted to NOAA at the hearing by any person in attendance. In addition, written comments may be submitted by e-mail to gcos.comments@noaa.gov or by mail addressed to Thomas Street, NOAA Office of General Counsel for Ocean Services, 1305 East-West Highway, Room 6111, Silver Spring, MD 20910. Comments must be received by October 2, 2008.

NOAA officials administering the hearing will not entertain questions, and will not be making any substantive decisions at the hearing. This hearing is being held to obtain information on issues the Secretary will likely consider in deciding the TCA's appeal. A summary of relevant issues as well as additional background on the appeal appeared in the Federal Register notice of March 17, 2008, announcing the appeal, and may be found on the Internet at http://www.ogc.doc.gov/czma.htm. This Web site also includes additional information on the hearing, including conduct and decorum that is required, restrictions on the use of cameras and recording equipment and the display of signs and banners in the hearing room, the process by which testimony will be transcribed and made part of the record, and other rules and guidelines.

Questions concerning the hearing should be directed to Thomas Street, Attorney-Advisor, NOAA Office of the General Counsel, 301-713-2967, or Stephanie Campbell, Attorney-Advisor, NOAA Office of the General Counsel, 301-713-2967, or gcos.inquiries@noaa.gov.

Dated: August 26, 2008.
Joel La Bissonniere,
Assistant General Counsel for Ocean Services.

[Federal Domestic Assistance Catalog No. 11.419 Coastal Zone Management Program Assistance.]

[FR Doc. E8-20283 Filed 8-29-08; 8:45 am]

BILLING CODE 3510-08-P